DEPARTMENT OF THE INTERIOR

National Park Service

[NPS-WASO-NAGPRA-NPS0035714; PPWOCRADN0-PCU00RP14.R50000]

Notice of Intent To Repatriate Cultural Items: U.S. Army Corps of Engineers, Mobile District, Mobile, AL

AGENCY: National Park Service, Interior.

ACTION: Notice.

SUMMARY: In accordance with the Native American Graves Protection and Repatriation Act (NAGPRA), the U.S. Army Corps of Engineers, Mobile District, intends to repatriate certain cultural items that meet the definition of unassociated funerary objects and that have a cultural affiliation with the Indian Tribes or Native Hawaiian organizations in this notice. The cultural items were removed from Itawamba and Tishomingo Counties, MS.

DATES: Repatriation of the cultural items in this notice may occur on or after May 26, 2023.

ADDRESSES: Ms. Alexandria Smith, U.S. Army Corps of Engineers, Mobile District, 109 St. Joseph Street, P.O. Box 2288, Mobile, AL 36628-0001, telephone (251) 690-2728, email Alexandria.N.Smith@usace.army.mil.

SUPPLEMENTARY INFORMATION: This notice is published as part of the National Park Service's administrative responsibilities under NAGPRA. The determinations in this notice are the sole responsibility of the U.S. Army Corps of Engineers, Mobile District. The National Park Service is not responsible for the determinations in this notice. Additional information on the determinations in this notice, including the results of consultation, can be found in the summary or related records held by the U.S. Army Corps of Engineers, Mobile District.

Description

Nineteen cultural items were removed from Itawamba County, MS. The White Springs site (22IT537) was originally recorded by Joseph Caldwell and S.D. Lewis in 1971, during a survey of the Canal Section of the Tennessee-Tombigbee Waterway. The site was identified as a 15-to-20-acre village site located in a field on the east side. Archeological phases identified at the site include Early Archaic, Gulf Formational, Middle and Late Woodland, and Mississippian. Testing excavations were conducted in April of 1971, and full-scale excavation was conducted between July and August of the same year by the University of Southern Mississippi. The 19 unassociated funerary objects consist of four lots of ceramics, six lots of lithics, three lots of faunal remains, one lot of shells, one lot of soil samples, one lot of projectile points, one lot of sandstone, one lot of petrified wood, and one lot of charcoal.

Fifteen cultural items were removed from Itawamba County, MS. Joseph Caldwell and S.D. Lewis identified the Walnut site (22IT539) in November of 1971 in a floodplain near the confluence of Mackeys and Big Brown Creeks. The site is located within the operational boundaries of the Canal Section of the Tennessee-Tombigbee Waterway. It was described as a village site measuring 100 feet by 150 feet located on a rise in swamp and low forest. According to the site form, the site had been looted and partly cleared for a powerline. Archeological phases associated with the site include Middle Archaic, Late Archaic, Middle Gulf Formational, and Woodland. The 15 unassociated funerary objects consist of nine lots of perpetuity samples, one lot of macrobotanicals, one preform, one anvil stone, one lot of hammerstones, one lot of projectile points, and one lot of chipped stone fragments.

Seven cultural items were removed from Itawamba County, MS. The Poplar site (22IT576) was recorded in 1975 by J.R. Atkinson in the Canal Section of the Tennessee-Tombigbee Waterway. Atkinson described the site as a circular Woodland midden mound with black soil approximately one half acre in size. The University of Alabama conducted archeological testing at the site in 1979 and full-scale excavations in 1980. Poplar is a multi-component site with Paleoindian, Archaic, and Woodland components. The seven unassociated funerary objects consist of two lots of debris, two lots of faunal remains, one lot of hematite, and two lots of flakes.

Fourteen cultural items were removed from Tishomingo County, MS. The F.L. Brinkley Midden site (22TS729) is located in the Divide Cut Section of the Tennessee-Tombigbee Waterway. The site was documented as a stratified accretional midden dating from the Early Archaic through the Middle Woodland periods. The site was excavated by the Office of Archaeological Research, University of Alabama, between December 5, 1977, and July 7, 1978. The cultural items from this site presently reside at the Cobb Institute, Mississippi State University. Due to preservation concerns, most likely, no human remains were ever removed from the site. The 14 unassociated funerary objects consist of one lot of ceramics, four lots of lithics, one lot of sandstone, one lot of clay, five lots of float samples, and two lots of soil samples.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, historical, other information, and expert opinion.

Determinations

Pursuant to NAGPRA and its implementing regulations, and after consultation with the appropriate Indian Tribes and Native Hawaiian organizations, the U.S. Army Corps of Engineers, Mobile District, has determined that:

• The 55 cultural items described above are reasonably believed to have been placed with or near individual human remains at the time of death or later as part of the death rite or ceremony and are believed, by a preponderance of the evidence, to have been removed from a specific burial site of a Native American individual.

• There is a relationship of shared group identity that can be reasonably traced between the cultural items and the Alabama-Coushatta Tribe of Texas; Alabama-Quassarte Tribal Town; Coushatta Tribe of Louisiana; and The Chickasaw Nation.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after May 26, 2023. If competing requests for repatriation are received, the U.S. Army Corps of Engineers, Mobile District, must determine the most appropriate requestor prior to repatriation. Requests for joint repatriation of the cultural items are considered a single request and not competing requests. The U.S. Army Corps of Engineers, Mobile District, is responsible for sending a copy of this notice to the Indian Tribes identified in this notice.

Authority: Native American Graves Protection and Repatriation Act, 25 U.S.C. 3003, and the implementing regulations, 43 CFR 10.8, § 10.10, and § 10.14.

Dated: April 19, 2023.
Melanie O'Brien,
Manager, National NAGPRA Program.

[FR Doc. 2023-08807 Filed 4-25-23; 8:45 am]

BILLING CODE 4312-52-P